DEPARTMENT OF TRANSPORTATION

Federal Aviation Administration

14 CFR Part 39

[Docket No. FAA-2010-1243; Directorate Identifier 2010-CE-058-AD]

RIN 2120-AA64

Airworthiness Directives; Cessna Aircraft Company (Cessna) Model 172 Airplanes Modified by Supplemental Type Certificate (STC) SA01303WI

AGENCY: Federal Aviation Administration (FAA), DOT.

ACTION: Notice of proposed rulemaking (NPRM).

SUMMARY: We propose to adopt a new airworthiness directive (AD) for the products listed above. This proposed AD would require installing a full authority digital engine control (FADEC) backup battery, replacing the supplement pilot's operating handbook and FAA approved airplane flight manual, and replacing the FADEC backup battery every 12 calendar months. This proposed AD was prompted by an incident where an airplane experienced an in-flight engine shutdown caused by a momentary loss of electrical power to the FADEC. We are proposing this AD to prevent interruption of electrical power to the FADEC, which could result in an uncommanded engine shutdown. This failure could lead to a loss of engine power.

DATES: We must receive comments on this proposed AD by January 31, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

For service information identified in this proposed AD, contact Thielert Aircraft Engines Service GmbH, Platanenstraße 14, D-09350 Lichtenstein, Deutschland; telephone: +49 (37204) 696-1474; fax: +49 (37204) 696-1910; Internet: http://www.thielert.com/. You may review copies of the referenced service information at the FAA, Small Airplane Directorate, 901 Locust, Kansas City, Missouri 64106. For information on the availability of this material at the FAA, call 816-329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Richard Rejniak, Aerospace Engineer, Wichita Aircraft Certification Office (ACO), FAA, 1801 Airport Road, Room 100; phone: (316) 946-4128; fax: (316) 946-4107; e-mail: richard.rejniak@faa.gov.

SUPPLEMENTARY INFORMATION:

Comments Invited

We invite you to send any written relevant data, views, or arguments about this proposal. Send your comments to an address listed under the ADDRESSES section. Include “Docket No. FAA-2010-1243; Directorate Identifier 2010-CE-058-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

In 2007, a Diamond DA42 airplane experienced a dual in-flight engine shutdown. Our review of the incident determined the root cause was an unsafe design feature that allowed momentary interruption of electrical power to both engine FADECs. The interruption caused the FADECs to reset, shutting down both engines with a consequent loss of engine power. Cessna Model 172 airplanes modified by STC No. SA01303WI have a similar unsafe design feature that can allow the FADEC to shut down or reset if the main battery is depleted and the electrical charging system malfunctions.

This condition, if not corrected, could result in an uncommanded engine shutdown. This failure could lead to a loss of engine power.

Relevant Service Information

We reviewed Thielert Aircraft Engines GmbH Service Bulletins TM TAE 601-0007, Revision 8, dated October 14, 2010, and TM TAE 601-1001 P1, Revision 8, dated October 14, 2010. The service information describes procedures for installation of a FADEC backup battery.

FAA's Determination

We are proposing this AD because we evaluated all the relevant information and determined the unsafe condition described previously is likely to exist or develop in other products of the same type design.

Proposed AD Requirements

This proposed AD would require accomplishing the actions specified in the service information described previously.

Costs of Compliance

We estimate that this proposed AD affects 14 airplanes of U.S. registry.

We estimate the following costs to comply with this proposed AD:

Estimated Costs
Action | Labor cost | Parts cost | Cost per product | Cost on U.S. operators
For airplanes with a 14-volt battery system; installation of a 14-volt FADEC backup battery | 24 work-hours × $85 per hour = $2,040 | $820 | $2,860 | $14,300
For airplanes with a 28-volt battery system; installation of a 28-volt FADEC backup battery | 24 work-hours × $85 per hour = $2,040 | 1,160 | 3,200 | 28,800

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in subtitle VII, part A, subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Cessna Aircraft Company: Docket No. FAA-2010-1243; Directorate Identifier 2010-CE-058-AD.

Comments Due Date

(a) We must receive comments by January 31, 2011.

Affected ADs

(b) None.

Applicability

(c) This AD applies to all serial numbers of the following airplanes, certified in any category, that are modified by Supplemental Type Certificate (STC) SA01303WI, as identified in Table 1 of this AD:

Table 1
Model | Engine | Group
(1) 172F, 172G, 172H, 172I, 172K, 172L, 172M, F172F, F172G, F172H, F172K, F172L, and F172M | TAE 125-01 | 1
(2) 172F, 172G, 172H, 172I, 172K, 172L, 172M, F172F, F172G, F172H, F172K, F172L, and F172M | TAE 125-02-99 | 2
(3) 172N, 172P, F172N, and F172P | TAE 125-01 | 3
(4) 172N, 172P, F172N, and F172P | TAE 125-02-99 | 4
(5) 172R and 172S | TAE 125-01 | 5
(6) 172R and 172S | TAE 125-02-99 | 6

Subject

(d) Joint Aircraft System Component (JASC)/Air Transport Association (ATA) of America Code 72: Engine.

Unsafe Condition

(e) This AD was prompted by an incident where an airplane experienced an in-flight engine shutdown caused by a momentary loss of electrical power to the FADEC. We are issuing this AD to prevent interruption of electrical power to the FADEC, which could result in an uncommanded engine shutdown. This failure could lead to a loss of engine power.

Compliance

(f) Comply with this AD within the compliance times specified, unless already done.

Actions | Compliance | Procedures
(1) For all airplanes: Modify the engine electrical system by installing a backup battery system and associated wiring and circuitry. | Within the next 100 hours time-in-service after the effective date of this AD or within 30 days after the effective date of this AD, whichever occurs first. | (i) For groups 1, 3, and 5 airplanes: Follow Thielert Aircraft Engines GmbH Service Bulletin TM TAE 601-0007, Revision 8, dated October 14, 2010.
|  | (ii) For groups 2, 4, and 6 airplanes: Follow Thielert Aircraft Engines GmbH Service Bulletin TM TAE 601-1001 P1, Revision 8, dated October 14, 2010.
(2) For all airplanes: Replace the FADEC backup battery. | Within 12 calendar months after doing the modification required in paragraph (f)(1) of this AD and repetitively thereafter within 12 calendar months after the previous replacement. | (i) For groups 1, 3, and 5 airplanes: Follow page 8 of Chapter 20-AMM-24-01-US, Issue 2, Revision No.: 2, dated October 8, 2010, of Thielert Aircraft Engines GmbH Supplement Airplane Maintenance Manual Cessna 172 & Reims F172 TAE 125-01, Doc. No.: AMM-20-01 (U.S.-Version) Version: 2/4.
|  | (ii) For groups 2, 4, and 6 airplanes: Follow page 7 of Chapter 20-AMM-24-02-US, Issue: 1, Rev. No: 1, dated October 8, 2010, of Thielert Aircraft Engines GmbH Supplement Airplane Maintenance Manual Cessna 172 & Reims F172 CENTURION 2.0 (TAE 125-02-99), Doc. No.: AMM-20-02 (U.S.-Version) Version: 1/1.
(3) For groups 1 and 2 airplanes: Incorporate Thielert Aircraft Engines GmbH Supplemental Airplane Flight Manual or Pilot's Operating Handbook and FAA Approved Airplane Flight Manual Supplement (as applicable), TAE-No.: 20-0310-21042, Issue 2-1, dated October 4, 2010, into the pilot's operating handbook. | Before further flight after doing the modification required in paragraph (f)(1) of this AD. | Not applicable.
(4) For groups 3 and 4 airplanes: Incorporate Thielert Aircraft Engines GmbH Supplemental Airplane Flight Manual or Pilot's Operating Handbook and FAA Approved Airplane Flight Manual Supplement (as applicable), TAE-No.: 20-0310-20042, Issue 2-1, dated October 4, 2010, into the pilot's operating handbook. | Before further flight after doing the modification required in paragraph (f)(1) of this AD. | Not applicable.
(5) For groups 5 and 6 airplanes: Incorporate Thielert Aircraft Engines GmbH Supplemental Pilot's Operating Handbook and FAA Approved Airplane Flight Manual Supplement, TAE-No.: 20-0310-22042, Issue 2-1, dated October 4, 2010, into the pilot's operating handbook. | Before further flight after doing the modification required in paragraph (f)(1) of this AD. | Not applicable.

Alternative Methods of Compliance (AMOCs)

(g)(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your Principal Maintenance Inspector or Principal Avionics Inspector, as appropriate, or lacking a principal inspector, your local Flight Standards District Office.

Related Information

(h) For more information about this AD, contact Richard Rejniak, Aerospace Engineer, Wichita ACO, FAA, 1801 Airport Road, Room 100; phone: (316) 946-4128; fax: (316) 946-4107; e-mail: richard.rejniak@faa.gov.

(i) For service information identified in this AD, contact Thielert Aircraft Engines Service GmbH, Platanenstraße 14, D-09350 Lichtenstein, Deutschland; telephone: +49 (37204) 696-1474; fax: +49 (37204) 696-1910; Internet: http://www.thielert.com/. You may review copies of the referenced service information at the FAA, Small Airplane Directorate, 901 Locust, Kansas City, Missouri 64106. For information on the availability of this material at the FAA, call 816-329-4148.

Issued in Kansas City, Missouri, on December 9, 2010.
John Colomy,
Acting Manager, Small Airplane Directorate, Aircraft Certification Service.

[FR Doc. 2010-31428 Filed 12-14-10; 8:45 am]

BILLING CODE 4910-13-P